DEPARTMENT OF COMMERCE

Foreign-Trade Zones Board

[B-1-2014]

Notification of Proposed Production Activity; Mitsubishi Electric Power Products Inc.; Subzone 181B (Circuit Breakers); Sebring, Ohio

Mitsubishi Electric Power Products Inc. (MEPPI), operator of Subzone 181B, submitted a notification of proposed production activity for its facility located in Sebring, Ohio. The notification conforming to the requirements of the regulations of the FTZ Board (15 CFR 400.22) was received on December 26, 2013.

The facility is used for the production of high voltage, automatic circuit breakers. Pursuant to 15 CFR 400.14(b), FTZ activity would be limited to the specific foreign-status components and specific finished products described in the submitted notification (as described below) and subsequently authorized by the FTZ Board.

Production under FTZ procedures could exempt MEPPI from customs duty payments on the foreign status components used in export production. On its domestic sales, MEPPI would be able to choose the duty rates during customs entry procedures that apply to high voltage, automatic circuit breakers (2.0, 2.7%) for the foreign status inputs noted below. Customs duties also could possibly be deferred or reduced on foreign status production equipment.

The components and materials sourced from abroad include: Oils; greases; glues; silicones; plastic pipes/hoses/fittings/tapes/films/sheets/containers; rubber pipes/hoses/gaskets/containers; paper labels; metal flanges/fittings/casters/name plates; screws; bolts; washers; rivets; cotter pins; springs; wire (steel, copper); cabinet hardware; copper fittings; aluminum struts/tanks; pumps; compressors; blowers; air conditioners; heat exchanger parts; filters; laser tools; portable computers and related parts; valves (reducing, transmission, check, safety); bearings (ball, roller, needle); universal joints; electric (AC/DC) motors and related parts; transformers; converters; inductors; parts of power supplies; resistors; capacitors; fuses; relays; contactors; connectors; alarm signaling indicators/equipment; electrical switches; surge suppressors; circuit and overload protectors; control panels; auxiliary switches; circuit breaker parts; interrupters; diodes; transistors; light emitting diodes; integrated circuit parts; insulated wire; coaxial cable; wiring harnesses; conductors; fiber optic cable; carbon electrodes; insulators (glass, ceramic); insulating fittings; temperature sensors; thermostats and related parts; monostats; voltage regulators; and, metal furniture (duty rate ranges from free to 6.7%; 5.25¢/bbl).

Public comment is invited from interested parties. Submissions shall be addressed to the FTZ Board's Executive Secretary at the address below. The closing period for their receipt is February 26, 2014.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Pierre Duy at Pierre.Duy@trade.gov or (202) 482-1378.

Dated: January 10, 2014.
Andrew McGilvray,
Executive Secretary.

[FR Doc. 2014-00912 Filed 1-16-14; 8:45 am]

BILLING CODE 3510-DS-P